CHEMICAL SAFETY AND HAZARD INVESTIGATION BOARD

Sunshine Act Meeting

The United States Chemical Safety and Hazard Investigation Board announces that it will convene a Public Meeting beginning at 9 a.m. local time on July 18, 2000, at the Paterson, New Jersey, City Hall Council Chambers, Third Floor, 155 Market Street, Paterson, New Jersey.

The purpose of the meeting is to allow the CSB Investigation team to present to the Board, in open session, its findings of fact concerning the April 1998 explosion at Morton Specialty Chemical's Paterson facility.

The meeting will be open to the public, and public comments will be accepted following the presentation by investigators.

For more information, please contact the Chemical Safety and Hazard Investigation Board's Office of External Relations, (202) 261-7600, or visit our website at: http://www.chemsafety.gov.

Christopher W. Warner,
Chief Operating Officer.

[FR Doc. 00-17438 Filed 7-5-00; 5:03 pm]

BILLING CODE 6351-01-U